FEDERAL COMMUNICATIONS COMMISSION

Sunshine Act Meeting; Open Commission Meeting; Wednesday, June 13, 2012

Date: June 6, 2012.

The Federal Communications Commission will hold an Open Meeting on the subjects listed below on Wednesday, June 13, 2012, which is scheduled to commence at 10:30 a.m. in Room TW-C305, at 445 12th Street SW., Washington, DC.

Item Nos. | Bureau | Subject
1 | Office of Engineering and Technology | Title: Sections 2.925 and 2.926 of the Rules Regarding Grantee Codes for Certified Radiofrequency Equipment
|  | Summary: The Commission will consider an Order to modify the equipment authorization rules to increase the supply of grantee codes assigned to parties applying for equipment certification.
2 | Public Safety and Homeland Security | Title: Amendment of Part 90 of the Commission's Rules (WP Docket No. 07-100); Implementing a Nationwide, Broadband, Interoperable Public Safety Network in the 700 MHz Band (PS Docket No. 06-229) and Service Rules for the 698-746, 747-762 and 777-792 MHz Bands (WT Docket No. 06-150)
|  | Summary: The Commission will consider a Fourth Report and Order and Fifth Further Notice of Proposed Rulemaking to encourage improved spectrum efficiency and greater use of the 4940-4990 MHz (4.9 GHz) band.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2012-14231 Filed 6-7-12; 4:15 pm]

BILLING CODE 6712-01-P